DEPARTMENT OF COMMERCE

National Oceanic and Atmospheric Administration

RIN 0648-XJ53

Magnuson-Stevens Act Provisions; General Provisions for Domestic Fisheries; Application for Exempted Fishing Permit

AGENCY: National Marine Fisheries Service (NMFS), National Oceanic and Atmospheric Administration (NOAA), Commerce.

ACTION: Notification of a proposal to conduct exempted fishing; request for comments.

SUMMARY: The Assistant Regional Administrator for Sustainable Fisheries, Northeast Region, NMFS (Assistant Regional Administrator), has made a preliminary determination that the subject exempted fishing permit (EFP) application submitted by the Gulf of Maine Research Institute (GMRI), which would exempt Atlantic sea scallop (scallop) vessels from small dredge program gear restrictions, should be issued for public comment. The Assistant Regional Administrator has also made a preliminary determination that the activities authorized under the EFP would be consistent with the goals and objectives of the Atlantic Sea Scallop Fishery Management Plan (FMP). However, further review and consultation may be necessary before a final determination is made.

DATES: Comments on GMRI's EFP application must be received on or before August 26, 2008.

ADDRESSES: Comments may be submitted by e-mail. The mailbox address for providing e-mail comments is scallop.efp@noaa.gov. Include in the subject line of the e-mail comment the following document identifier: “Comments on small dredge EFP.” Written comments should be sent to Patricia A. Kurkul, Regional Administrator, NMFS, Northeast Regional Office, 1 Blackburn Drive, Gloucester, MA 01930. Mark the outside of the envelope, “Comments on small dredge EFP.” Comments may also be sent via facsimile (fax) to (978) 281-9135.

FOR FURTHER INFORMATION CONTACT: Ryan Silva, Cooperative Research Liaison, phone: 978-281-9326, fax: 978-281-9135.

SUPPLEMENTARY INFORMATION: In response to the 2008 Atlantic Sea Scallop RSA Program request for proposals, NOAA's National Marine Fisheries Service received a proposal from GMRI entitled, “An assessment of hanging ratio and mesh orientation of twine-tops on selectivity and bycatch in the general category scallop dredge fishery in scallop limited access areas.” The grant approved by NOAA Grants on July 26, 2008, as NOAA Award No. NA08NMF4540667. GMRI proposes to determine if changes to the dredge twine-top configuration would affect the selectivity of a 10.5-ft general category scallop dredge.

Under this award, GMRI was awarded 70,565 lb of scallops from the Elephant Trunk Access Area (ETAA) and 33 days-at-sea (DAS), with the proceeds from sold scallops compensating participating vessel owners and defraying research costs. Small dredge program restrictions at 50 CFR 648.51(e) require a vessel enrolled in the small dredge program to fish with one dredge no more than 10.5 ft in width. GMRI would like to contract a vessel enrolled in the small dredge program to harvest their set-aside scallop allocation. GMRI requests this vessel be authorized to fish two dredges (max combined width of 31 ft) to harvest the set-aside scallops, thereby requiring exemption from the small dredge program dredge size restrictions. GMRI claims that this exemption would allow the vessel to harvest the set-aside scallops more efficiently, thus reducing vessel operating expenses and increasing the portion of proceeds supporting the research project.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: August 4, 2008.
James P. Burgess
Acting Director, Office of Sustainable Fisheries, National Marine Fisheries Service.

[FR Doc. E8-18406 Filed 8-8-08; 8:45 am]

BILLING CODE 3510-22-S